DEPARTMENT OF HEALTH AND HUMAN SERVICES

Joint Meeting of the National Vaccine Advisory Committee and the Advisory Committee on Immunization Practices

AGENCY: Department of Health and Human Services, Office of the Secretary.

ACTION: Notice.

SUMMARY: As stipulated by the Federal Advisory Committee Act, the Department of Health and Human Services (DHHS) is hereby giving notice that the National Vaccine Advisory Committee (NVAC) and the Advisory Committee on Immunization Practices (ACIP) will hold a joint meeting. The meeting is open to the public.

DATES: The meeting will be held on July 19, 2005, from 9 a.m. to 4:30 p.m.

ADDRESSES: Department of Health and Human Services, 5635 Fishers Lane, Terrace Level Conference Room, Rockville, Maryland 20852.

FOR FURTHER INFORMATION CONTACT: Ms. Emma English, Program Analyst, National Vaccine Program Office, Department of Health and Human Services, Room 443-H, Hubert H. Humphrey Building, 200 Independence Avenue, SW., Washington, DC 20201; telephone (202) 690-5566, or email nvac@osophs.dhhs.gov.

SUPPLEMENTARY INFORMATION: Pursuant to Section 2101 of the Public Health Service Act (42 U.S.C. Section 300aa-1), the Secretary of Health and Human services was mandated to establish the National Vaccine Program to achieve optimal prevention of human infectious diseases through immunization and to achieve optimal prevention against adverse reactions to vaccines. The NVAC was established to provide advice and make recommendations to the Assistant Secretary for Health, as the Director of the National Vaccine Program, on matters related to the program's responsibilities.

The ACIP is charged with advising the Director, Centers for Disease Control and Prevention (CDC), on the appropriate uses of immunizing agents. In addition, under 42 U.S.C. Section 1396s, the ACIP is mandated to establish and periodically review and, as appropriate, revise the list of vaccines for administration to vaccine-eligible children through the Vaccines for Children (VFC) program, along with schedules regarding the appropriate periodicity, dosage, and contraindications applicable to the vaccines.

This is a special meeting of the NVAC and the ACIP. Discussions will surround the Department's draft Pandemic Influenza Preparedness and Response Plan. A tentative agenda will be made available on or about July 5, 2005 for review on the NVAC Web site: http://www.hhs.gov/nvpo/nvac.

Public attendance at the meeting is limited to space available. Individuals must provide a photo ID for entry into the building. Individuals who plan to attend and need special assistance, such as sign language interpretation or other reasonable accommodations, should notify the designated contact person. Members of the public will have the opportunity to provide comments at the meeting. Public comment will be limited to five minutes per speaker. Any members of the public who wish to have printed material distributed to NVAC and ACIP members should submit materials to the Executive Secretary, NVAC, through the contact person listed above prior to close of business July 15, 2005. Preregistration is required for both public attendance and comment. Any individual who wishes to attend the meeting and/or participate in the public comment session should email nvac@osophs.dhhs.gov or call 202-690-5566.

For this special meeting, remote participation will be made available via a toll-free call-in phone number. This call-in number can be obtained from the contact person identified above and will be operator assisted to provide members of the public the opportunity to provide comments to the Committees. Additionally, this meeting will be Web cast at http://www.videocast.nih.gov. Online participants will be able to e-mail comments to the Committees. However, Committee members may not have the opportunity to read all written statements submitted on the day of the meeting and prior to any votes that may be taken by the Committees. It is recommended that written statements be provided to the Executive Secretary, NVAC, through the contact person listed above prior to close of business July 15, 2005.

Dated: June 29, 2005.
Bruce Gellin,
Director, National Vaccine Program Office.

[FR Doc. 05-13226 Filed 7-5-05; 8:45 am]

BILLING CODE 4150-44-P]